FEDERAL MARITIME COMMISSION

Notice of Agreements Filed

The Commission hereby gives notice of the filing of the following agreements under the Shipping Act of 1984. Interested parties may submit comments on any agreements to the Secretary, Federal Maritime Commission, Washington, DC 20573, within twelve days of the date this notice appears in the Federal Register. A copy of each agreement is available through the Commission's Web site (www.fmc.gov) or by contacting the Office of Agreements at (202)-523-5793 or tradeanalysis@fmc.gov.

Agreement No.: 201237.

Title: MACS—CSAL Shipping Agreement.

Parties: MACS Maritime Carrier Shipping Pte. Ltd. (MACS) and CSAL Canada-States-Africa Line Inc. (CSAL).

Filing Party: Steven B. Chameides; Foley & Lardner LLP; Washington Harbour; 3000 K Street NW., Suite 600, Washington, DC 20007.

Synopsis: The agreement authorizes CSAL and MACS to charter space to each other on an as-needed basis in the trade between the U.S. East and Gulf Coasts and ports in Africa.

Agreement No.: 011931-008.

Title: CMA CGM/Marfret Vessel Sharing Agreement for PAD Service.

Parties: CMA CGM S.A. and Compagnie Maritime Marfret.

Filing Party: Draughn B. Arbona, Esq.; Senior Counsel; CMA CGM (America), LLC. 5701 Lake Wright Drive, Norfolk, VA 23502-1868.

Synopsis: This amendment increases the frequency of the service operated under this Agreement from fortnightly to weekly, and implements certain changes related to this transition to a weekly service.

By Order of the Federal Maritime Commission.
Dated: December 1, 2017.
Rachel E. Dickon,
Assistant Secretary.

[FR Doc. 2017-26337 Filed 12-6-17; 8:45 am]

BILLING CODE 6731-AA-P